DEPARTMENT OF THE INTERIOR

Bureau of Land Management

[OR-957-00-1420-BJ: GP05-0037]

Filing of Plats of Survey: Oregon/Washington

AGENCY: Bureau of Land Management.

ACTION: Notice.

SUMMARY: The plats of survey of the following described lands were officially filed in the Oregon State Office, Portland, Oregon, on October 13, 2004.

Willamette Meridian

Oregon

T. 28 S., R. 11 W., accepted, July 30, 2004.

T. 38 S., R. 5 W., accepted, July 30, 2004.

T. 37 S., R. 4 W., accepted, July 30, 2004.

T. 27 S., R. 9 W., accepted August 6, 2004.

T. 26 S., R. 9 W., accepted August 6, 2004.

T. 20 S., R. 29 E., accepted September 7, 2004.

T. 37 S., R. 20 E., accepted September 7, 2004.

T. 6 N., Rgs. 31 & 32 E., accepted September 7, 2004.

T. 2 N., R. 33 E., accepted September 7, 2004.

T. 15 S., R. 2 W. accepted September 7, 2004.

Washington

T. 4 N., R. 10 E., accepted July 30, 2004.

T. 22 N., R. 10 W., accepted September 7, 2004.

The plats of survey of the following described lands were officially filed in the Oregon State Office, Portland, Oregon, on November 3, 2004.

Oregon

T. 2 N., R. 36 E., accepted September 27, 2004.

T. 22 S., R. 7 S., accepted September 13, 2004.

T. 26 S., R. 7 W., accepted September 13, 2004.

T. 26 S., R. 8 W., accepted September 13, 2004.

Washington

T. 24 N., R. 12 W., accepted October 22, 2004.

The plats of survey of the following described lands were officially filed in the Oregon State Office, Portland, Oregon, on November 16, 2004.

Oregon

T. 29 S., R. 9 W., accepted October 22, 2004.

T. 30 S., R. 9 W., accepted October 22, 2004.

T. 16 S., R. 7 W., accepted November 1, 2004.

Washington

T. 23 N., R. 12 W., accepted October 22, 2004.

T. 15 N., R. 23 E., accepted October 26, 2004.

T. 16 N., R. 23 E., accepted October 26, 2004.

A copy of the plat may be obtained from the Public Room at the Oregon State Office, Bureau of Land Management, 333 S.W. 1st Avenue, Portland, Oregon 97204, upon required payment. A person or party who wishes to protest against a survey must file a notice that they wish to protest. (at the above address) with the State Director, Bureau of Land Management, Portland, Oregon.

FOR FURTHER INFORMATION CONTACT: Chief, Branch of Geographic Sciences, Bureau of Land Management, (333 S.W. 1st Avenue) P.O. Box 2965, Portland, Oregon 97208.

Dated: December 21, 2004.
Robert D. DeViney, Jr.,
Branch of Realty and Records Services.

[FR Doc. 04-28641 Filed 12-30-04; 8:45 am]

BILLING CODE 4310-33-P